OFFICE OF PERSONNEL MANAGEMENT

5 CFR Part 532

RIN 3206-AN26

Prevailing Rate Systems; Abolishment of the Newburgh, NY, Appropriated Fund Federal Wage System Wage Area

AGENCY: U.S. Office of Personnel Management.

ACTION: Final rule.

SUMMARY: The U.S. Office of Personnel Management (OPM) is issuing a final rule to abolish the Newburgh, New York, appropriated fund Federal Wage System (FWS) wage area and redefine Orange County, NY, to the New York, NY, survey area; Dutchess County, NY, to the New York area of application; Delaware and Ulster Counties, NY, to the Albany-Schenectady-Troy, NY, area of application; and Sullivan County, NY, to the Scranton-Wilkes-Barre, Pennsylvania, area of application. These changes are based on a consensus recommendation of the Federal Prevailing Rate Advisory Committee (FPRAC) to best match the counties proposed for redefinition to nearby FWS survey areas.

DATES: Effective date: This rule is effective on April 26, 2016. Applicability date: This change applies on the first day of the first applicable pay period beginning on or after May 26, 2016.

FOR FURTHER INFORMATION CONTACT: Madeline Gonzalez, by telephone at (202) 606-2838 or by email at pay-leave-policy@opm.gov.

SUPPLEMENTARY INFORMATION: On November 30, 2015, OPM issued a proposed rule (80 FR 74715) to abolish the Newburgh, NY, appropriated fund FWS wage area and redefine Orange County, NY, to the New York, NY, survey area; Dutchess County, NY, to the New York area of application; Delaware and Ulster Counties, NY, to the Albany-Schenectady-Troy, NY, area of application; and Sullivan County, NY, to the Scranton-Wilkes-Barre, PA, area of application. FPRAC, the national labor-management committee responsible for advising OPM on matters concerning the pay of FWS employees, reviewed and recommended this change by consensus.

The 30-day comment period ended on December 30, 2015. OPM received one comment in support of the proposal and one comment regarding the effective date of the proposed change recommending retroactive applicability.

OPM defines wage areas through regulation in 5 CFR part 532. Changes in OPM's regulations are prospective, not retroactive, following an appropriate period for public comment. These changes will apply on the first day of the first applicable pay period beginning on or after 30 days following publication of the final regulations.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
Beth F. Cobert,
Acting Director.

Accordingly, OPM is amending 5 CFR part 532 as follows:

PART 532—PREVAILING RATE SYSTEMS

1. The authority citation for part 532 continues to read as follows:

Authority: 5 U.S.C. 5343, 5346; § 532.707 also issued under 5 U.S.C. 552.

Appendix A to Subpart B of Part 532— [Amended]

2. Appendix A to subpart B of part 532 is amended for the State of New York by removing the entry for Newburgh.

3. Appendix C to subpart B is amended by revising the wage area listing for the Albany-Schenectady-Troy, NY; New York, NY; and Scranton-Wilkes-Barre, PA, wage areas and removing the wage area listing for Newburgh, NY,

The revisions read as follows:

Appendix C to Subpart B of Part 532—Appropriated Fund Wage and Survey Areas

* * * * *

NEW YORK

Albany-Schenectady-Troy

Survey Area

New York:

Albany

Montgomery

Rensselaer

Saratoga

Schenectady

Area of Application. Survey area plus:

New York:

Columbia

Delaware

Fulton

Greene

Schoharie

Ulster

Warren

Washington

* * * * *

New York

Survey Area

New Jersey:

Bergen

Essex

Hudson

Middlesex

Morris

Passaic

Somerset

Union

New York:

Bronx

Kings

Nassau

New York

Orange

Queens

Suffolk

Westchester

Area of Application. Survey area plus:

New Jersey:

Hunterdon

Monmouth

Ocean (Excluding the Fort Dix Military Reservation)

Sussex

New York:

Dutchess

Putnam

Richmond

Rockland

Pennsylvania:

Pike

* * * * *

PENNSYLVANIA

Scranton-Wilkes-Barre

Survey Area

Pennsylvania:

Lackawanna

Luzerne

Monroe

Area of Application. Survey area plus:

New York:

Sullivan

Pennsylvania:

Bradford

Columbia

Lycoming (Excluding Allenwood Federal Prison Camp)

Montour

Sullivan

Susquehanna

Wayne

Wyoming

* * * * *

[FR Doc. 2016-09702 Filed 4-25-16; 8:45 am]

BILLING CODE 6325-39-P